DEPARTMENT OF THE INTERIOR

Bureau of Indian Affairs

25 CFR Part 256

[K00103 12/13 A3A10; 134D0102DR-DS5A300000-DR.5A311.IA000113; BIA-2014-0004]

RIN 1076-AF22

Housing Improvement Program

AGENCY: Bureau of Indian Affairs, Interior.

ACTION: Proposed rule; correction; tribal consultation session information.

SUMMARY: The Bureau of Indian Affairs (BIA) published a proposed rule in the Federal Register of January 2, 2015, announcing proposed revisions to update the Housing Improvement Program. This document provides updates to the dates and locations of tribal consultation sessions.

DATES: Comments on the proposed rule must be received by March 6, 2015. See the SUPPLEMENTARY INFORMATION section of this document for dates of tribal consultation sessions.

FOR FURTHER INFORMATION CONTACT: Ms. Elizabeth Appel, Director, Office of Regulatory Affairs & Collaborative Action, (202) 273-4680; elizabeth.appel@bia.gov.

SUPPLEMENTARY INFORMATION: Tribal consultation sessions on the proposed rule published in the Federal Register of January 2, 2015 (80 FR 13) will be held at the following dates and locations:

Date | Time | Location
Tuesday, February 3, 2015, *NOTE: The session will be held February 3, not February 4. | 1 p.m.-5 p.m. (Eastern Standard Time) | (in conjunction with the National American Indian Housing Council legislative conference), Mayflower Renaissance Hotel, 1127 Connecticut Ave. NW. Washington, DC 20036.
Wednesday, February 11, 2015 | 1 p.m.- 5 p.m. (Alaska Standard Time) | Frontier Building, 3601 C Street, Room 896, Anchorage, AK 99503.
Wednesday, February 18, 2015 | 1 p.m.- 4 p.m. (Eastern Standard Time) | Teleconference Call-In Number: (888) 455-0045; passcode 1185469.
Thursday, February 26, 2015 | 1 p.m.-5 p.m. (Eastern Standard Time) | (following the National Congress of American Indian Executive Council Winter Session), Capital Hilton, Room Federal A, 1001 16th Street NW., Washington, DC 20036.

These dates supersede the dates listed in the January 2, 2015, Federal Register. Please visit the following Web site for additional updates: http://www.bia.gov/WhoWeAre/AS-IA/ORM/HIP/index.htm.

Dated: January 14, 2015.
Kevin K. Washburn,
Assistant Secretary—Indian Affairs.

[FR Doc. 2015-01582 Filed 1-27-15; 8:45 am]

BILLING CODE 4310-4J-P